DEPARTMENT OF DEFENSE

Department of the Navy

Meeting of the Board of Advisors to the Presidents of the Naval Postgraduate School and Naval War College, Naval Postgraduate School Subcommittee

AGENCY: Department of the Navy, DoD.

ACTION: Notice of Partially Closed Meeting.

SUMMARY: Pursuant to the provisions of the Federal Advisory Committee Act (Pub. L. 92-463, as amended), notice is hereby given that the following meeting of the aforementioned subcommittee will be held. The executive session of this meeting from 9:00 a.m. to 11:30 a.m. on April 25, 2013, will involve premature disclosure of information that is likely to significantly frustrate implementation of proposed agency actions, and disclosure of information of a personal nature that would constitute an invasion of privacy. For this reason, the executive session of this meeting will be closed to the public.

DATES: The meeting will be held on Wednesday, April 24, 2013, from 8:00 a.m. to 4:30 p.m. and on Thursday, April 25, 2013, from 8:00 a.m. to 4:30 p.m. Pacific Time Zone. All sessions with the exception of the executive session on April 25, 2013, from 9:00 a.m. to 11:30 a.m. are open to the public.

ADDRESSES: The meeting will be held at the Naval Postgraduate School, Ingersoll Hall, Room 361, 1 University Circle, Monterey, CA.

FOR FURTHER INFORMATION CONTACT: Ms. Jaye Panza, Naval Postgraduate School, Monterey, CA 93943-5001, telephone number 831-656-2514.

SUPPLEMENTARY INFORMATION: The purpose of the meeting is to elicit the advice of the Board on the Naval Service's Postgraduate Education Program and the collaborative exchange and partnership between the Naval Postgraduate School (NPS) and the Air Force Institute of Technology. The board examines the effectiveness with which the NPS is accomplishing its mission. To this end, the board will inquire into the curricula; instruction; physical equipment; administration; state of morale of the student body, faculty, and staff; fiscal affairs; and any other matters relating to the operation of the NPS as the board considers pertinent. In particular, the subcommittee will hear and discuss with NPS leadership the recently issued report on NPS by the Department of the Navy Inspector General. The subcommittee will review the NPS plans for addressing the deficiencies and recommendations cited in the IG report and provide advice to NPS leaders. The subcommittee will also through the Board of Advisors (BOA) to the Presidents of NPS and Naval War College report on progress to the Secretary of the Navy. The Board will meet in closed executive session on Thursday, April 25, 2013 from 9:00 a.m. to 11:30 a.m. in accordance with the provision set forth in section 552b(c) of Title 5 U.S.C. Topics to be discussed are: (a) Inspection Recommendations from the Naval Inspector General and potential actions in response, led by Assistant Secretary of the Navy, Manpower and Reserve Affairs; and (b) nominations for Board vacancies. The closed session will disclose information that is likely to significantly frustrate implementation of proposed agency actions. With respect to filling Board vacancies this portion will include disclosure of information of a personal nature that would constitute an unwarranted invasion of personal privacy. Individuals without a Department of Defense government/CAC card require an escort at the meeting location. For access, information, or to send written comments regarding the NPS Subcommittee contact Ms. Jaye Panza, Designated Federal Officer, Naval Postgraduate School, 1 University Circle, Monterey, CA 93943-5001 or by fax 831-656-3145 by April 23, 2013.

Dated: April 5, 2013.
C.K. Chiappetta,
Lieutenant Commander, Office of the Judge Advocate General, U.S. Navy, Federal Register Liaison Officer.

[FR Doc. 2013-08340 Filed 4-9-13; 8:45 am]

BILLING CODE 3810-FF-P